DEPARTMENT OF STATE

[Public Notice 8352]

Persons on Whom Sanctions Have Been Imposed Pursuant to the Iran Sanctions Act of 1996, as Amended, and Executive Order 13622

AGENCY: Department of State.

ACTION: Notice.

SUMMARY: The Secretary of State has determined, pursuant to authority delegated by the (the “Delegation Memorandum”)(see 77 FR 62139, October 12, 2012), that the following person has engaged in sanctionable activity described in section 5(a)(8) of the Iran Sanctions Act of 1996 (Pub. L. 104-172) (50 U.S.C. 1701 note) (“ISA”), as amended, and that certain sanctions are imposed as a result: Ferland Company Limited.

The Secretary of State also has determined that the following persons have engaged in sanctionable activity described in section 2(a)(ii) of Executive Order 13622—Authorizing Additional Sanctions With Respect to Iran, and that certain sanctions are imposed as a result: Jam Petrochemical Company and Niksima Food and Beverage JLT.

DATES: Effective Date: The sanctions on Ferland Company Limited, Jam Petrochemical Company, and Niksima Food and Beverage JLT are effective May 31, 2013.

FOR FURTHER INFORMATION CONTACT: On general issues: Office of Sanctions Policy and Implementation, Department of State, Telephone: (202) 647-7489.

SUPPLEMENTARY INFORMATION: Pursuant to section 5(a)(8) of the ISA and the Delegation Memorandum, the Secretary determined that the following sanctions as described in section 6 of the ISA are to be imposed on Ferland Company Limited:

1. Banking transactions. Any transfers of credit or payments between financial institutions or by, through, or to any financial institution, to the extent that such transfers or payments are subject to the jurisdiction of the United States and involve any interest of Ferland Company Limited, shall be prohibited.

2. Property transactions. It shall be prohibited to:

a. Acquire, hold, withhold, use, transfer, withdraw, transport, import, or export any property that is subject to the jurisdiction of the United States and with respect to which Ferland Company Limited has any interest;

b. Deal in or exercise any right, power, or privilege with respect to such property; or

c. Conduct any transactions involving such property.

3. Foreign Exchange. Any transactions in foreign exchange that are subject to the jurisdiction of the United States and which involve any interest of Ferland Company Limited shall be prohibited.

4. Loans from United States Financial Institutions. Loans or provision of credits to Ferland Company Limited totaling more than $10,000,000 over a 12-month period from any United States Financial Institution shall be prohibited.

5. Exclusion of corporate officers. The Secretary of State shall deny a visa to, and the Secretary of Homeland Security shall exclude from the United States, the following corporate officers of Ferland Company Limited:

a. Vitaly Sokolenko.

Pursuant to Executive Order (E.O.) 13622, the Secretary determined that the following sanctions as described in section 4 of E.O. 13622 are to be imposed on Jam Petrochemical Company:

1. Banking transactions. Any transfers of credit or payments between financial institutions or by, through, or to any financial institution, to the extent that such transfers or payments are subject to the jurisdiction of the United States and involve any interest of Jam Petrochemical Company, shall be prohibited.

2. Blocking all property and interests in property that are in the United States, that come within the United States, or that are or come within the possession or control of any United States person, including any foreign branch, of Jam Petrochemical Company, and providing that such property and interests in property may not be transferred, paid, exported, withdrawn or otherwise dealt in.

3. Foreign Exchange. Any transactions in foreign exchange that are subject to the jurisdiction of the United States and which involve any interest of Jam Petrochemical Company, shall be prohibited.

Pursuant to Executive Order (E.O.) 13622, the Secretary determined that the following sanctions as described in section 4 of E.O. 13622 are to be imposed on Niksima Food and Beverage JLT:

1. Banking transactions. Any transfers of credit or payments between financial institutions or by, through, or to any financial institution, to the extent that such transfers or payments are subject to the jurisdiction of the United States and involve any interest of Niksima Food and Beverage JLT, shall be prohibited.

2. Blocking all property and interests in property that are in the United States, that come within the United States, or that are or come within the possession or control of any United States person, including any foreign branch, of Jam Petrochemical Company, and providing that such property and interests in property may not be transferred, paid, exported, withdrawn or otherwise dealt in.

3. Foreign Exchange. Any transactions in foreign exchange that are subject to the jurisdiction of the United States and which involve any interest of Niksima Food and Beverage JLT, shall be prohibited.

The sanctions described above with respect to Ferland Company Limited, Jam Petrochemical Company, and Niksima Food and Beverage JLT shall remain in effect until otherwise directed pursuant to the provisions of the ISA or other applicable authority. Pursuant to the authority delegated to the Secretary of State in the Delegation Memorandum and consistent with any relevant Executive Orders, relevant agencies and instrumentalities of the United States Government shall take all appropriate measures within their authority to carry out the provisions of this notice. The Secretary of the Treasury is taking appropriate action to implement the sanctions for which authority has been delegated to the Secretary of the Treasury pursuant to the Delegation Memorandum, Executive Order 13622 of July 30, 2012, and Executive Order 13628 of October 9, 2012.

The following constitutes a current list, as of this date, of persons on whom ISA sanctions have been imposed. The particular sanctions imposed on an individual person are identified in the relevant Federal Register Notice.

—Associated Shipbroking (a.k.a. SAM) (see Public Notice 7585, 76 FR 56866, September 14, 2011)

—Belarusneft (see Public Notice 7408, 76 FR 18821, April 5, 2011)

—Bimeh Markazi-Central Insurance of Iran (see Public Notice 8268, 76 Fed. Reg. 21183, April 9, 2013)

—Cambis, Dimitris (see Public Notice 8268, 76 Fed. Reg. 21183, April 9, 2013)

—FAL Oil Company Limited (see Public Notice 7776, 77 FR 4389, Jan. 27, 2012)

—Ferland Company Limited

—Impire Shipping (see Public Notice 8268, 76 Fed. Reg. 21183, April 9, 2013)

—Kish Protection and Indemnity (a.k.a. Kish P&I) (see Public Notice 8268, 76 Fed. Reg. 21183, April 9, 2013)

—Kuo Oil (S) Pte. Ltd. (see Public Notice 7776, 77 FR 4389, Jan. 27, 2012)

—Naftiran Intertrade Company (see Public Notice 7197, 75 FR 62916, Oct. 13, 2010)

—Petrochemical Commercial Company International (a.k.a. PCCI) (see Public Notice 7585, 76 FR 56866, September 14, 2011)

—Petro´leos de Venezuela S.A. (see Public Notice 7585, 76 FR 56866, September 14, 2011)

—Royal Oyster Group (see Public Notice 7585, 76 FR 56866, September 14, 2011)

—Speedy Ship (a.k.a. SPD) (see Public Notice 7585, 76 FR 56866, September 14, 2011)

—Sytrol (see Public Notice 8040, 77 FR 59034, September 18, 2012)

—Zhuhai Zhenrong Company (see Public Notice 7776, 77 FR 4389, Jan. 27, 2012)

Dated: June 5, 2013.
Jose W. Fernandez,
Assistant Secretary of State for Economic and Business Affairs.

[FR Doc. 2013-13968 Filed 6-11-13; 8:45 am]

BILLING CODE 4710-07-P